DEPARTMENT OF TRANSPORTATION

Federal Aviation Administration

Fourteenth Meeting: Subcommittee 227 (SC 227)

AGENCY: Federal Aviation Administration (FAA), U.S. Department of Transportation (DOT).

ACTION: Fourteenth Meeting Notice of Subcommittee 227.

SUMMARY: The FAA is issuing this notice to advise the public of the fourteenth meeting of the Subcommittee 227.

DATES: The meeting will be held June 15th-19th from 9:00 a.m.-4:30 p.m.

ADDRESSES: The meeting will be held at RTCA Headquarters, 1150 18th Street NW., Suite 910, Washington, DC 20036, Tel: (202) 330-0663.

FOR FURTHER INFORMATION CONTACT: The RTCA Secretariat, 1150 18th Street NW., Suite 910, Washington, DC, 20036, or by telephone at (202) 833-9339, fax at (202) 833-9434, or Web site at http://www.rtca.org or Sophie Bousquet, Program Director, RTCA, Inc., sbousquet@rtca.org, 202-330-0663.

SUPPLEMENTARY INFORMATION: Pursuant to section 10(a) (2) of the Federal Advisory Committee Act (Pub. L. 92-463, 5 U.S.C., App.), notice is hereby given for a meeting of the NextGen Advisory Committee. The agenda will include the following:

Monday, June 15, 2015

1. Welcome/Introductions/Administrative Remarks

2. Agenda Overview

3. Overview of Planned Work Program for the Week

a. Action Items Review

b. MOPS Draft Review

c. Miscellaneous Items

4. Plenary Review/Discussion

a. Planned Work Schedule (Note, schedule subject to change)

b. Draft MOPS Issues

c. CNS-ATM appendix: Interval Management Operations, addition or not at this time.

d. Status of new working group for map MOPS

e. Release of the MOPS (Rev to DO-283A) for FRAC

5. Technical Requirements Breakout Sessions (as needed)

6. Other Business

Tuesday, June 16, 2015

1. Welcome/Introductions/Administrative Remarks

2. Agenda Overview

3. Overview of Planned Work Program for the Week

a. Action Items Review

b. MOPS Draft Review

c. Miscellaneous Items

4. Plenary Review/Discussion

a. Planned Work Schedule (Note, schedule subject to change)

b. Draft MOPS Issues

c. CNS-ATM appendix: Interval Management Operations, addition or not at this time.

d. Status of new working group for map MOPS

e. Release of the MOPS (Rev to DO-283A) for FRAC

5. Technical Requirements Breakout Sessions (as needed)

6. Other Business

Wednesday, June 17, 2015

1. Welcome/Introductions/Administrative Remarks

2. Agenda Overview

3. Overview of Planned Work Program for the Week

a. Action Items Review

b. MOPS Draft Review

c. Miscellaneous Items

4. Plenary Review/Discussion

a. Planned Work Schedule (Note, schedule subject to change)

b. Draft MOPS Issues

c. CNS-ATM appendix: Interval Management Operations, addition or not at this time.

d. Status of new working group for map MOPS

e. Release of the MOPS (Rev to DO-283A) for FRAC

5. Technical Requirements Breakout Sessions (as needed)

6. Other Business

Thursday, June 18, 2015

1. Welcome/Introductions/Administrative Remarks

2. Agenda Overview

3. Overview of Planned Work Program for the Week

a. Action Items Review

b. MOPS Draft Review

c. Miscellaneous Items

4. Plenary Review/Discussion

a. Planned Work Schedule (Note, schedule subject to change)

b. Draft MOPS Issues

c. CNS-ATM appendix: Interval Management Operations, addition or not at this time.

d. Status of new working group for map MOPS

e. Release of the MOPS (Rev to DO-283A) for FRAC

5. Technical Requirements Breakout Sessions (as needed)

6. Other Business

Friday, June 19, 2015

1. Welcome/Introductions/Administrative Remarks

2. Agenda Overview

3. Overview of Planned Work Program for the Week

a. Action Items Review

b. MOPS Draft Review

c. Miscellaneous Items

4. Plenary Review/Discussion

a. Planned Work Schedule (Note, schedule subject to change)

b. Draft MOPS Issues

c. CNS-ATM appendix: Interval Management Operations, addition or not at this time.

d. Status of new working group for map MOPS

e. Release of the MOPS (Rev to DO-283A) for FRAC

5. Technical Requirements Breakout Sessions (as needed)

6. Other Business

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on May 21, 2015.
Latasha Robinson,
Management & Program Analyst, NextGen, Program Oversight and Administration, Federal Aviation Administration.

[FR Doc. 2015-12962 Filed 5-28-15; 8:45 am]

BILLING CODE 4910-13-P